DEPARTMENT OF TRANSPORTATION

Federal Aviation Administration

14 CFR Parts 121 and 135

[Docket No. FAA-2011-1136; Amdt. Nos. 121-371A and 135-132A]

RIN 2120-AJ33

Air Carrier Contract Maintenance Requirements; Correction

AGENCY: Federal Aviation Administration (FAA), DOT.

ACTION: Final rule; correction.

SUMMARY: The FAA is correcting a final rule published on March 4, 2015 (80 FR 11537). In that rule, the FAA amended its maintenance regulations for domestic, flag, and supplemental operations, and for commuter and on-demand operations for aircraft type certificated with a passenger seating configuration of 10 seats or more (excluding any pilot seat). The FAA originally proposed to make the effective date of the rule one year after its publication date to give affected operators time to come into compliance with the new requirements, and to allow the FAA time to review information submitted by the operators under the rule. However, in the final rule, the FAA inadvertently overlooked the proposed one-year compliance time, and included an effective date of 60 days after publication. This document corrects the effective date of that document.

DATES: This correction is effective on May 4, 2015. The effective date of the final rule published March 4, 2015 (80 FR 11537), is corrected to March 4, 2016.

FOR FURTHER INFORMATION CONTACT:

For technical questions concerning this action, contact Wende T. DiMuro, AFS-330, Federal Aviation Administration, 800 Independence Avenue SW., Washington, DC 20591; telephone (202) 267-1685; email wende.t.dimuro@faa.gov.

For legal questions concerning this action, contact Edmund Averman, AGC-200, Federal Aviation Administration, 800 Independence Avenue SW., Washington, DC 20591; telephone (202) 267-3147, email ed.averman@faa.gov.

SUPPLEMENTARY INFORMATION:

Background

On March 4, 2015, the FAA published a final rule entitled, “Air Carrier Contract Maintenance Requirements” (80 FR 11537).

In that final rule, the FAA revised its maintenance regulations for domestic, flag, and supplemental operations, and for commuter and on-demand operations for aircraft type certificated with a passenger seating configuration of 10 seats or more (excluding any pilot seat). The new rules require affected air carriers and operators to develop policies, procedures, methods, and instructions for performing contract maintenance that are acceptable to the FAA, and to include them in their maintenance manuals. The rules also require the air carriers and operators to provide a list to the FAA of all persons with whom they contract their maintenance, which also must include the physical address where the work will be carried out and a description of the type of work that is to be carried out at each location.

In the notice of proposed rulemaking (NPRM) (77 FR 67584; Nov. 13, 2012), the FAA proposed to make the effective date one year after the publication of the final rule. The stated reason for this was that the agency recognized that the affected operators would need time to fully develop the policies, procedures, methods, and instructions for contract maintenance and to provide them in an acceptable format to the FAA. We also noted that operators would need time to prepare the list with the required information of their contract maintenance providers and to provide them in an acceptable format to their Certificate Holding District Offices (77 FR 67587). The FAA also noted that it would need time to review the information submitted by the operators. In publishing the final rule, the FAA inadvertently overlooked this proposed one-year compliance time, and included an effective date of 60 days after publication. This document corrects that oversight so that the effective date is one year after the publication of the final rule, or March 4, 2016.

Correction

In FR Doc. 2015-04179, beginning on page 11537 in the Federal Register of March 4, 2015, make the following corrections:

Correction

1. On page 11537, in the second column, in the paragraph entitled “DATES:”, correct “May 4, 2015” to read “March 4, 2016.”

Issued under authority provided by 49 U.S.C. 106(f) in Washington, DC, on April 29, 2015.
John Barbagallo,
Acting Director, Flight Standards Office.

[FR Doc. 2015-10423 Filed 5-1-15; 8:45 am]

BILLING CODE 4910-13-P